INTERNATIONAL TRADE COMMISSION

[Investigation No. 337-TA-716]

In the Matter of Certain Large Scale Integrated Circuit Semiconductor Chips and Products Containing the Same; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 9) of the presiding administrative law judge (“ALJ”) granting complainant's motion to amend the complaint and notice of investigation in the above-captioned investigation.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 5, 2010, based on a complaint filed by Panasonic Corporation (“Panasonic”) of Japan. 75 FR 24742-43. The complaint alleges violations of section 337 of the Tariff Act of 1930, as amended, 19 U.S.C. 1337, in the importation into the United States, the sale for importation, and the sale within the United States after importation of certain large scale integrated circuit semiconductor chips and products containing same by reason of infringement of certain claims of U.S. Patent Nos. 5,933,364 and 6,834,336. The complaint further alleges the existence of a domestic industry. The Commission's notice of investigation named several respondents including the following: Freescale Semiconductor Xiqing Integrated Semiconductor Manufacturing Site (“Freescale Xiqing”) of China; Freescale Semiconductor Innovation Center (“Freescale Innovation”) of China; Freescale Semiconductor Pte. Ltd. (“Freescale Pte.”) of Singapore; and Premier Farnell Corporation d/b/a Newark (“Premier”) of Independence, Ohio.

On July 2, 2010, Panasonic filed an unopposed motion to amend the complaint and notice of investigation to: (1) Substitute Freescale Qiangxin (Tianjin) IC Design Co., Ltd. of China, Freescale Semiconductor (China) Limited of China, and Newark Electronics Corporation and Newark Corporation of Chicago, Illinois for respondents Freescale Xiqing, Freescale Innovation, and Premier, respectively; (2) correct the name and address of Freescale Pte. to Freescale Semiconductor Singapore Pte. Ltd., 10 Ang Mo Kio Street 65, 03-01/03, Singapore 569059; and (3) remove “Ltd.” following “Panasonic Corporation” on the cover page of the complaint.

On July 27, 2010, the ALJ issued the subject ID granting Panasonic's unopposed motion to amend the complaint and notice of investigation. No party petitioned for review of the ID pursuant to 19 CFR 210.43(a). The Commission has determined not to review this ID.

The authority for the Commission's determination is contained in section 337 of the Tariff Act of 1930, as amended, 19 U.S.C. 1337, and in sections 210.14 and 210.42(h) of the Commission's Rules of Practice and Procedure, 19 CFR 210.14, 210.42(h).

By order of the Commission.
Issued: August 16, 2010.
Marilyn R. Abbott,
Secretary to the Commission.

[FR Doc. 2010-20795 Filed 8-20-10; 8:45 am]

BILLING CODE 7020-02-P